DEPARTMENT OF TRANSPORTATION

Federal Aviation Administration

14 CFR Part 97

[Docket No. 30674; Amdt. No. 3328]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 14, 2009. The compliance date for each SIAP, associated Takeoff Minimums, and ODP is specified in the amendatory provisions.

The incorporation by reference of certain publications listed in the regulations is approved by the Director of the Federal Register as of July 14, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125); Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule “ under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on June 26, 2009.
John M. Allen,
Director, Flight Standards Service.

Adoption of The Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 30 Jul 2009

Merced, CA, Merced Rgnl/Macready Field, RNAV (GPS) RWY 30, Orig-B

Merced, CA, Merced Rgnl/Macready Field, VOR RWY 30, Orig-B

Pueblo, CO, Pueblo Memorial, RNAV (GPS) RWY 8L, Orig-A

Leonardtown, MD, St. Mary's County Rgnl, RNAV (GPS) RWY 29, Orig

Manville, NJ, Central Jersey Rgnl, VOR-A, Amdt 7

Readington, NJ, Solberg-Hunterdon, RNAV (GPS) RWY 22, Orig

Readington, NJ, Solberg-Hunterdon, Takeoff Minimums and Obstacle DP, Amdt 1

Readington, NJ, Solberg-Hunterdon, VOR-A, Amdt 9

Fulton, NY, Oswego County, ILS OR LOC RWY 33, Orig-A

Fulton, NY, Oswego County, RNAV (GPS) RWY 24, Amdt 1

Fulton, NY, Oswego County, VOR RWY 33, Amdt 5A

Mountain City, TN, Johnson County, Takeoff Minimums and Obstacle DP, Orig

Effective 27 Aug 2009

Klawock, AK, Klawock, Takeoff Minimums and Obstacle DP, Amdt 2

Mountain Village, AK, Mountain Village, Takeoff Minimums and Obstacle DP, Amdt 1

Scammon Bay, AK, Scammon Bay, GPS RWY 10, Orig-B, CANCELLED

Scammon Bay, AK, Scammon Bay, GPS RWY 28, Orig-A, CANCELLED

Scammon Bay, AK, Scammon Bay, RNAV (GPS) RWY 10, Orig

Scammon Bay, AK, Scammon Bay, RNAV (GPS) RWY 28, Orig

Scammon Bay, AK, Scammon Bay, RNAV (GPS)-B, Orig

Unalaska, AK, Unalaska, Takeoff Minimums and Obstacle DP, Amdt 3

Eagle, CO, Eagle County Rgnl, GYPSUM FOUR Graphic Obstacle DP

Eagle, CO, Eagle County Rgnl, Takeoff Minimum and Obstacle DP, Amdt 7

Gunnison, CO, Gunnison-Crested Butte Rgnl, RNAV (RNP) RWY 6, Orig

La Junta, CO, La Junta Muni, RNAV (GPS) RWY 8, Amdt 1

La Junta, CO, La Junta Muni, RNAV (GPS) RWY 26, Amdt 1

Tinian Island, CQ, Tinian Intl, RNAV (GPS) RWY 8, Amdt 1

Tinian Island, CQ, Tinian Intl, RNAV (GPS) RWY 26, Amdt 1

Tinian Island, CQ, Tinian Intl, Takeoff Minimums and Obstacle DP, Amdt 1

Fort Myers, FL, Page Field, Takeoff Minimums and Obstacle DP, Amdt 5

Titusville, FL, Space Coast Rgnl, GPS RWY 9, Orig-C, CANCELLED

Titusville, FL, Space Coast Rgnl, NDB OR GPS RWY 18, Amdt 12A, CANCELLED

Titusville, FL, Space Coast Rgnl, RNAV (GPS) Y RWY 9, Orig

Titusville, FL, Space Coast Rgnl, RNAV (GPS) RWY 18, Orig

Titusville, FL, Space Coast Rgnl, RNAV (GPS) Z RWY 18, Orig

New Orleans, LA, Lakefront, RNAV (GPS) RWY 36L, Orig

New Orleans, LA, Lakefront, VOR/DME RWY 36L, Amdt 9

Bangor, ME, Bangor Intl, Takeoff Minimums and Obstacle DP, Amdt 2

Flint, MI, Bishop Intl, RNAV (GPS) RWY 9, Amdt 1

Flint, MI, Bishop Intl, RNAV (GPS) RWY 18, Amdt 1

Flint, MI, Bishop Intl, RNAV (GPS) RWY 36, Amdt 1

Menominee, MI, Menominee-Marinette Twin County, NDB RWY 3, Amdt 3

Menominee, MI, Menominee-Marinette Twin County, RNAV (GPS) RWY 3, Orig

Menominee, MI, Menominee-Marinette Twin County, RNAV (GPS) RWY 21, Orig

Menominee, MI, Menominee-Marinette Twin County, Takeoff Minimums and Obstacle DP, Amdt 3

Menominee, MI, Menominee-Marinette Twin County, VOR-A, Amdt 3

Menominee, MI, Menominee-Marinette Twin County, VOR/DME RNAV OR GPS RWY 21, Amdt 1B, CANCELLED

Mount Pleasant, MI, Mount Pleasant Muni, RNAV (GPS) RWY 9, Orig

Mount Pleasant, MI, Mount Pleasant Muni, RNAV (GPS) RWY 27, Orig

Mount Pleasant, MI, Mount Pleasant Muni, Takeoff Minimums and Obstacle DP, Amdt 5

Mount Pleasant, MI, Mount Pleasant Muni, VOR RWY 27, Amdt 1

St Cloud, MN, St Cloud Rgnl, ILS OR LOC/DME RWY 13, Amdt 1

St Cloud, MN, St Cloud Rgnl, RNAV (GPS) RWY 13, Amdt 1

St Cloud, MN, St Cloud Rgnl, RNAV (GPS) RWY 31, Amdt 1

St Cloud, MN, St Cloud Rgnl, Takeoff Minimums and Obstacle DP, Orig

Fairmont, NE, Fairmont State Airfield, RNAV (GPS) RWY 17, Amdt 1

Fairmont, NE, Fairmont State Airfield, RNAV (GPS) RWY 35, Amdt 1

Fairmont, NE, Fairmont State Airfield, Takeoff Minimums and Obstacle DP, Orig

York, NE, York Muni, RNAV (GPS) RWY 17, Amdt 2

York, NE, York Muni, RNAV (GPS) RWY 35, Amdt 1

York, NE, York Muni, Takeoff Minimums and Obstacle DP, Amdt 1

Eugene, OR, Mahlon Sweet Field, RNAV (GPS) RWY 34R, Orig-A

Philadelphia, PA, Philadelphia Intl, RNAV (GPS) Y RWY 9L, Amdt 1A

Philadelphia, PA, Philadelphia Intl, RNAV (GPS) Y RWY 9R, Amdt 2A

Philadelphia, PA, Philadelphia Intl, RNAV (RNP) Z RWY 9L, Orig

Philadelphia, PA, Philadelphia Intl, RNAV (RNP) Z RWY 9R, Orig

Charleston, SC, Charleston Executive, RNAV (GPS) RWY 4, Orig

Hartsville, SC, Hartsville Regional, GPS RWY 3, Orig-A, CANCELLED

Hartsville, SC, Hartsville Regional, GPS RWY 21, Orig-A, CANCELLED

Hartsville, SC, Hartsville Regional, NDB RWY 3, Amdt 1

Hartsville, SC, Hartsville Regional, NDB RWY 21, Amdt 1

Hartsville, SC, Hartsville Regional, RNAV (GPS) RWY 3, Orig

Hartsville, SC, Hartsville Regional, RNAV (GPS) RWY 21, Orig

Vermillion, SD, Harold Davidson Field, NDB OR GPS RWY 30, Amdt 1A, CANCELLED

Vermillion, SD, Harold Davidson Field, RNAV (GPS) RWY 30, Orig

Vermillion, SD, Harold Davidson Field, Takeoff Minimums and Obstacle DP, Amdt 1

Watertown, SD, Watertown Rgnl, NDB RWY 35, Amdt 9

Watertown, SD, Watertown Rgnl, RNAV (GPS) RWY 30, Amdt 1

Watertown, SD, Watertown Rgnl, RNAV (GPS) RWY 35, Orig

Provo, UT, Provo Muni, ILS OR LOC/DME RWY 13, Amdt 1

Provo, UT, Provo Muni, PROVO FOUR Graphic Obstacle DP

Provo, UT, Provo Muni, RNAV (GPS) RWY 13, Amdt 1

Provo, UT, Provo Muni, VOR RWY 13, Amdt 3A, CANCELLED

Provo, UT, Provo Muni, VOR/DME RWY 13, Amdt 2

Staunton/Waynesboro/Harrisonburg, VA, Shenandoah Valley Rgnl, GPS RWY 23, Orig, CANCELLED

Staunton/Waynesboro/Harrisonburg, VA, Shenandoah Valley Rgnl, ILS OR LOC RWY 5, Amdt 9

Staunton/Waynesboro/Harrisonburg, VA, Shenandoah Valley Rgnl, NDB RWY 5, Amdt 10

Staunton/Waynesboro/Harrisonburg, VA, Shenandoah Valley Rgnl, RNAV (GPS) RWY 5, Orig

Staunton/Waynesboro/Harrisonburg, VA, Shenandoah Valley Rgnl, RNAV (GPS) RWY 23, Orig

Staunton/Waynesboro/Harrisonburg, VA, Shenandoah Valley Rgnl, SHENANDOAH ONE Graphic Obstacle DP

Staunton/Waynesboro/Harrisonburg, VA, Shenandoah Valley Rgnl, Takeoff Minimums and Obstacle DP, Amdt 6

Kenosha, WI, Kenosha Rgnl, ILS OR LOC RWY 7L, Amdt 3

Kenosha, WI, Kenosha Rgnl, NDB OR GPS RWY 6L, Amdt 1C, CANCELLED

Kenosha, WI, Kenosha Rgnl, RNAV (GPS) RWY 7L, Orig

Kenosha, WI, Kenosha Rgnl, RNAV (GPS) RWY 15, Orig

Kenosha, WI, Kenosha Rgnl, RNAV (GPS) RWY 25R, Orig

Kenosha, WI, Kenosha Rgnl, RNAV (GPS) RWY 33, Orig

Kenosha, WI, Kenosha Rgnl, Takeoff Minimums and Obstacle DP, Orig

Kenosha, WI, Kenosha Rgnl, VOR RWY 15, Amdt 1

Kenosha, WI, Kenosha Rgnl, VOR RWY 25R, Amdt 1

Lewisburg, WV, Greenbrier Valley, GPS RWY 4, Amdt 1A, CANCELLED

Lewisburg, WV, Greenbrier Valley, GPS RWY 22, Amdt 1A, CANCELLED

Lewisburg, WV, Greenbrier Valley, ILS OR LOC RWY 4, Amdt 10

Lewisburg, WV, Greenbrier Valley, RNAV (GPS) RWY 4, Orig

Lewisburg, WV, Greenbrier Valley, RNAV (GPS) RWY 22, Orig

Lewisburg, WV, Greenbrier Valley, Takeoff Minimums and Obstacle DP, Amdt 4

Lewisburg, WV, Greenbrier Valley, VOR RWY 4, Amdt 1

Lewisburg, WV, Greenbrier Valley, VOR RWY 22, Amdt 1

[FR Doc. E9-16139 Filed 7-13-09; 8:45 am]

BILLING CODE 4910-13-P